DEPARTMENT OF ENERGY

Federal Energy Regulatory Commission

[Project No. 9184-013]

Flambeau Hydro, LLC; Notice of Application Tendered for Filing with the Commission, Soliciting Additional Study Requests, and Establishing Procedural Schedule for Relicensing and a Deadline for Submission of Final Amendments

June 21, 2005.

Take notice that the following hydroelectric application has been filed with the Commission and is available for public inspection.

a. Type of Application: Subsequent License.

b. Project No.: 9184-013.

c. Date Filed: June 10, 2005.

d. Applicant: Flambeau Hydro, LLC.

e. Name of Project: Danbury Hydroelectric Project.

f. Location: On the Yellow River in Burnett County, near Danbury, Wisconsin. The project does not occupy federal lands.

g. Filed Pursuant to: Federal Power Act 16 U.S.C. 791 (a)-825(r).

h. Applicant Contact: Scott Klabunde, North American Hydro, Inc., PO Box 167, Neshkoro, WI 54960; 920-293-4628 ext. 14.

i. FERC Contact: Timothy Konnert, (202) 502-6359 or timothy.konnert@ferc.gov.

j. Cooperating agencies: We are asking Federal, state, local, and tribal agencies with jurisdiction and/or special expertise with respect to environmental issues to cooperate with us in the preparation of the environmental document. Agencies who would like to request cooperating status should follow the instructions for filing comments described in item l below.

k. Pursuant to § 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: August 8, 2005.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Additional study requests and requests for cooperating agency status may be filed electronically via the Internet in lieu of paper. The Commission strongly encourages electronic filings. See 18 CFR 385.2001(a)(1)(iii) and the instructions on the Commission's Web site (http://www.ferc.gov) under the “eFiling” link.

m. This application is not ready for environmental analysis at this time.

n. The existing Clam River Project consists of: (1) A 30-foot-high dam with a 48-foot-long, three-bay concrete spillway section equipped with six steel slide gates; (2) a 300-foot-long earthen dike that connects to the north side of the spillway; (3) a 255-acre reservoir with a normal water surface elevation of 929.0 feet msl; (4) a forebay structure with two steel slide gates leading to; (5) two 26-foot-long, 5.75-foot-diameter penstocks to convey flow to; (6) powerhouse 1 integral with the dam containing two generating units with a combined capacity of 476 kW; (7) a power canal headworks structure with stoplogs; (8) a 53-foot-wide, 2,500-foot-long power canal; (9) a 95-foot-long, 1.67-foot-diameter penstock to convey flow from the power canal to; (10) powerhouse 2 containing a generating unit with a capacity of 600 kW; and (11) appurtenant facilities. The applicant estimates that the average annual generation would be 3,844 megawatt hours using the three generating units with a combined capacity of 1,076 kW.

o. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via email of new filings and issuances related to this or other pending projects. For assistance, contact FERC Online Support.

p. With this notice, we are initiating consultation with the Wisconsin State Historic Preservation Officer (SHPO), as required by section 106, National Historic Preservation Act, and the regulations of the Advisory Council on Historic Preservation, 36 CFR 800.4.

q. Procedural schedule and final amendments: The application will be processed according to the following Hydro Licensing Schedule. Revisions to the schedule will be made as appropriate. The Commission staff proposes to issue one environmental assessment rather than issue a draft and final EA. Comments, terms and conditions, recommendations, prescriptions, and reply comments, if any, will be addressed in an EA. Staff intents to give at least 30 days for entities to comment on the EA, and will take into consideration all comments received on the EA before final action is taken on the license application.

Issue Acceptance or Deficiency Letter: July 2005.

Issue Scoping Document: August 2005.

Notice of application is ready for environmental analysis: October 2005.

Notice of the availability of the EA: April 2006.

Ready for Commission's decision on the application: June 2006.

Final amendments to the application must be filed with the Commission no later than 30 days from the issuance date of the notice of ready for environmental analysis.

Magalie R. Salas,
Secretary.

[FR Doc. E5-3419 Filed 6-29-05; 8:45 am]

BILLING CODE 6717-01-P